DEPARTMENT OF TRANSPORTATION

Federal Transit Administration

49 CFR Part 675

[FTA Docket No. FTA 2023-0018]

RIN 2132-AB46

Transit Worker Hours of Service and Fatigue Risk Management

AGENCY: Federal Transit Administration (FTA), United States Department of Transportation (DOT).

ACTION: Advance notice of proposed rulemaking, extension of comment period.

SUMMARY: The Federal Transit Administration (FTA) is extending the comment period for the advance notice of proposed rulemaking regarding transit worker hours of service and fatigue risk management, published on October 30, 2023, with the original comment period closing on December 29, 2023. The extension is based on concerns from the American Public Transportation Association (APTA) that the comment period did not provide sufficient time to review and provide comprehensive comments to the ANPRM due to two Federal holidays and the closure of many offices between Christmas and New Year's Day. FTA recognizes that others interested in commenting may have similar concerns and agrees that the comment period should be extended.

DATES: The comment period for the proposed rule published October 30, 2023, at 88 FR 74107, is extended. Comments are requested by January 29, 2024. FTA will consider comments received after that date to the extent practicable.

ADDRESSES: You may file comments, identified by docket number FTA-2023-0018, by any of the following methods:

• Federal eRulemaking Portal: Go to https://www.regulations.gov and follow the online instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal holidays.

• Fax: (202) 493-2251.

Instructions: All submissions received must include the agency name and docket number (FTA 2023-0018) for this rulemaking. All comments received will be posted without change to https://www.regulations.gov, including any personal information provided.

Docket: To access the docket and read background documents or comments received, go to: https://www.regulations.gov. Background documents and comments received may also be viewed at the U.S. Department of Transportation, 1200 New Jersey Ave. SE, Docket Operations, M-30, West Building Ground Floor, Room W12-140, Washington, DC 20590-0001, between 9 a.m. and 5 p.m. EST, Monday through Friday, except Federal holidays.

FOR FURTHER INFORMATION CONTACT: For program matters, contact Valerie Beck, Office of Transit Safety and Oversight, FTA, telephone (202) 366-9178 or email FTAFitnessforDuty@dot.gov. For legal matters, contact Emily Jessup, Office of the Chief Counsel, telephone (202) 366-8907 or email emily.jessup@dot.gov. Office hours are from 7:30 a.m. to 4 p.m., Monday through Friday, except Federal holidays.

SUPPLEMENTARY INFORMATION: In a letter submitted to the docket dated November 29, 2023, the American Public Transportation Association (APTA) requested a 30-day extension of the comment period for the advance notice of proposed rulemaking (ANPRM) published in the Federal Register on October 30, 2023 (88 FR 74107).

As justification for this extension, APTA believed that it could synthesize consensus comments from the industry by the December 29, 2023, deadline, but it will be nearly impossible due to two Federal holidays between the time the NPRM was published and comments are due, and the fact that that many offices, including APTA's, will be closed between Christmas and New Year's Day. APTA also notes that it held a webinar for safety coordinators to collect comments and plans to hold another one in later December to synthesize comments. APTA also stated that intends to hold a meeting for transit CEOs to collect their thoughts on an initial draft response in late December or early January. APTA believes an extension of time would ensure that APTA and its members have the necessary time to survey, draft, and vet consensus comments and to produce a more complete response to the NPRM.

Given the importance of public transportation safety and the desire for a robust dialogue on the issues surrounding transit worker fatigue, and the likelihood that other commenters may have similar concerns, FTA believes an extension of time is justified and is extending the comment period until January 29, 2024.

FTA is not republishing the questions in this document. Instead, please refer to the ANPRM (88 FR 74107). To ensure that comments are filed correctly, please follow the instructions in the ADDRESSES section above and include the docket number provided [FTA-2023-0018] in your comments.

Veronica Vanterpool,
Deputy Administrator.

[FR Doc. 2023-28154 Filed 12-20-23; 8:45 am]

BILLING CODE 4910-57-P